Title 3—

The President

Proclamation 8101 of January 18, 2007

National Sanctity of Human Life Day, 2007

By the President of the United States of America

A Proclamation

America was founded on the principle that we are all endowed by our Creator with the right to life and that every individual has dignity and worth. National Sanctity of Human Life Day helps foster a culture of life and reinforces our commitment to building a compassionate society that respects the value of every human being.

Among the most basic duties of Government is to defend the unalienable right to life, and my Administration is committed to protecting our society's most vulnerable members. We are vigorously promoting parental notification laws, adoption, abstinence education, crisis pregnancy programs, and the vital work of faith-based groups. Through the “Born-Alive Infants Protection Act of 2002,” the “Partial-Birth Abortion Ban Act of 2003,” and the “Unborn Victims of Violence Act of 2004,” we are helping to make our country a more hopeful place.

One of our society's challenges today is to harness the power of science to ease human suffering without sanctioning practices that violate the dignity of human life. With the right policies, we can continue to achieve scientific progress while living up to our ethical and moral responsibilities.

National Sanctity of Human Life Day serves as a reminder that we must value human life in all forms, not just those considered healthy, wanted, or convenient. Together, we can work toward a day when the dignity and humanity of every person is respected.

NOW, THEREFORE, I, GEORGE W. BUSH, President of the United States of America, by virtue of the authority vested in me by the Constitution and laws of the United States, do hereby proclaim Sunday, January 21, 2007, as National Sanctity of Human Life Day. I call upon all Americans to recognize this day with appropriate ceremonies and to underscore our commitment to respecting and protecting the life and dignity of every human being.

IN WITNESS WHEREOF, I have hereunto set my hand this eighteenth day of January, in the year of our Lord two thousand seven, and of the Independence of the United States of America the two hundred and thirty-first.

[FR Doc. 07-310

Filed 1-22-07; 8:49 am]

Billing code 3195-01-P